DEPARTMENT OF TRANSPORTATION

Federal Aviation Administration

14 CFR Part 39

[Docket No. FAA-2007-28973; Directorate Identifier 2007-NM-118-AD]

RIN 2120-AA64

Airworthiness Directives; Boeing Model 747-400, -400D, and -400F Series Airplanes; Boeing Model 757 Airplanes; and Boeing Model 767 Airplanes

AGENCY: Federal Aviation Administration (FAA), Department of Transportation (DOT).

ACTION: Notice of proposed rulemaking (NPRM).

SUMMARY: The FAA proposes to adopt a new airworthiness directive (AD) for certain Boeing airplanes listed above. This proposed AD would require an inspection of certain lighted pushbutton switches in the flight compartment for configuration `D' master modules and part numbers and corrective action if necessary. This proposed AD also provides an option to inspect panel assemblies for part numbers. This proposed AD results from a report indicating that the integrated drive generator failed in flight due to a possible switch malfunction. We are proposing this AD to ensure that certain lighted pushbutton switches in the flight compartment do not malfunction and cause the flightcrew to be unable to control critical airplane systems and continue safe airplane operation.

DATES: We must receive comments on this proposed AD by October 1, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building, Ground Floor, Room W12-140, 1200 New Jersey Avenue, SE., Washington, DC 20590.

• By fax: (202) 493-2251.

• Hand Delivery: Room W12-140 on the ground floor of the West Building, 1200 New Jersey Avenue, SE., Washington, DC, between 9 a.m. and 5 p.m., Monday through Friday, except Federal holidays.

Contact Boeing Commercial Airplanes, P.O. Box 3707, Seattle, Washington 98124-2207, for the service information identified in this proposed AD.

FOR FURTHER INFORMATION CONTACT: Georgios Roussos, Aerospace Engineer, Systems and Equipment Branch, ANM-130S, FAA, Seattle Aircraft Certification Office, 1601 Lind Avenue, SW., Renton, Washington 98057-3356; telephone (425) 917-6482; fax (425) 917-6590.

SUPPLEMENTARY INFORMATION:

Comments Invited

We invite you to submit any relevant written data, views, or arguments regarding this proposed AD. Send your comments to an address listed under ADDRESSES. Include “Docket No. FAA-2007-28973; Directorate Identifier 2007-NM-118-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the street address stated in the ADDRESSES section. Comments will be available in the AD docket shortly after the Docket Management System receives them.

Discussion

We have received a report indicating that the integrated drive generator (IDG) failed in flight on a Boeing Model 757 airplane. The failure caused considerable oil staining of the fan case, and fire damage to the inner skin of the fan cowl and to the engine wiring in the immediate area. The flightcrew had used a lighted pushbutton switch to disconnect the IDG before flight, but investigators concluded that the switch failed and did not disconnect the IDG. The IDG disconnect switch had a master module that was a configuration prior to configuration ‘D.’ Switches with master modules prior to configuration ‘D’ can malfunction due to “cap pop-up” (the switch releases from ON to OFF without detection or warning) or “jamming” (the switch gets stuck in one position and cannot be activated or deactivated).

These switches are used to control critical systems in the flight compartment. These critical systems include:

• Fuel management;

• Engine ignition and start control;

• Auxiliary power unit and cargo fire control;

• Ice and rain protection;

• Emergency lights/passenger oxygen;

• Electrical system;

• Battery/standby power;

• Air conditioning-temperature control;

• Autoflight-yaw damper;

• Engine electronic control;

• Pneumatic-bleed air control; and

• Landing gear actuator control.

Cap pop-up or jamming, if not corrected, could cause the flightcrew to be unable to control critical airplane systems and continue safe airplane operation.

The lighted pushbutton switches used to control critical systems in the flight compartment on Boeing Model 757 airplanes are identical to those installed on Boeing Model 747-400, -400D, and -400F series airplanes, and Model 767 airplanes. Therefore, all of these models might be subject to the identified unsafe condition.

Relevant Service Information

We have reviewed the Boeing service bulletins in the following table.

Boeing Alert Service Bulletins
Boeing alert service bulletin | Revision | Date | Model
747-33A2280 | 1 | September 25, 2003 | 747-400, -400D, and -400F series airplanes.
757-33A0044 | 1 | September 25, 2003 | 757-200, -200CB, and -200PF series airplanes.
757-33A0045 | 1 | September 25, 2003 | 757-300 series airplanes.
767-33A0087 | 1 | September 25, 2003 | 767-200, -300, and -300F series airplanes.
767-33A0088, including Appendix A | Original | December 19, 2001 | 767-400ER series airplanes.

These service bulletins describe procedures for examining certain lighted pushbutton switches in the flight compartment for configuration ‘D' master modules and performing corrective action if a switch does not have a configuration ‘D' master module. The corrective action if a switch does not have a configuration ‘D' master module includes doing one of the replacements specified below and other actions:

• Replacing the switch without a configuration ‘D' master module with a switch having a configuration ‘D' master module.

• Replacing the switch master module with a new configuration ‘D' master module.

• Replacing the panel assembly with a new panel assembly.

• Changing the part number of the panel assembly.

• Doing operational tests of the critical systems if components are replaced.

If a switch does have a configuration ‘D' master module but does not have a correct part number of the panel assembly, the service bulletin specifies a corrective action of changing the part number of the panel assembly.

Accomplishing the actions specified in the service information is intended to adequately address the unsafe condition.

The Boeing service bulletins refer to Korry Service Bulletin 433-33-05, dated July 23, 2001, as an additional source of service information for finding configuration ‘D' switches, for replacing the switch master module with a configuration ‘D' master module, and for doing various operational tests after the replacement.

Korry Service Bulletin 433-33-06, dated November 7, 2001, is an appropriate source of service information for finding the one-to-one switch correlation between the existing switches and the new part number switches.

The Boeing service bulletins refer to the Boeing component service bulletins that are described below. The component service bulletins specify procedures for replacing the switch or switch master module at applicable critical locations in the flight compartment and for doing one-time operational tests after the replacement.

Boeing Component Service Bulletins
Component service bulletin— | Date— | Model— | Critical location—
233N3203-21-01, Revision 1 | September 25, 2003 | 757 airplanes | Equipment Cooling Panel.
233N3204-30-02, Revision 1 | September 25, 2003 | 757 airplanes | Anti-ice Panel.
233N3206-28-02, Revision 1 | September 25, 2003 | 757-200, -200CB, and -200PF series airplanes | Fuel Control Panel.
233N3209-24-03, Revision 1 | September 25, 2003 | 757 airplanes, and 767-200, -300, and -300F series airplanes | Electrical Systems Panel.
233N3211-24-02, Revision 1 | September 25, 2003 | 757 airplanes and 767 airplanes | Battery/Standby Power Panel.
233N3215-36-01, Revision 1 | September 25, 2003 | 757 airplanes | Bleed Air Panel Assembly.
233N3216-22-01, Revision 1 | September 25, 2003 | 757 airplanes and 767 airplanes | Yaw Damper Panel Assembly.
233N3219-33-01, including Appendix A | December 19, 2001 | 757-200, -200CB, and -200PF series airplanes | Emergency Lights/Passenger Oxygen Panel.
233N3223-31-03, Revision 1 | September 25, 2003 | 757 airplanes | Engine Start/Ram Air Turbine Panel Assembly.
233N3224-73-01, Revision 1 | September 25, 2003 | 757-200, -200CB, and -200PF series airplanes | Electronic Engine Control Power Panel Assembly.
233N6203-26-10, Revision 1 | September 25, 2003 | 757 airplanes, and 767-200, -300, and -300F series airplanes | Auxiliary Power Unit/Cargo Fire Control Panel Assembly.
233T3210-33-01, Revision 1 | September 25, 2003 | 757 airplanes and 767 airplanes | Emergency Lights Panel.
233T3215-24-01, including Appendix A | December 19, 2001 | 767-400ER series airplanes | Electrical Control Module Assembly.
233T3235-28-05, Revision 1 | September 25, 2003 | 767-200, -300, and -300F series airplanes | Fuel Management Panel Assembly.
233T3236-21-05, Revision 1 | September 25, 2003 | 767 airplanes | Temperature Control Panel.
233T3237-36-04, Revision 1 | September 25, 2003 | 767 airplanes | Bleed Air Control Panel.
233T3241-30-03, Revision 1 | September 25, 2003 | 757-200, -200CB, and -200PF series airplanes, and 767-200, -300, and -300F series airplanes | Wing and Engine Anti-ice Control Panel.
233T3242-73-02, Revision 1 | September 25, 2003 | 757 airplanes, and 767-200, -300, and -300F series airplanes | Electronic Engine Control Panel.
233T3244-74-03, Revision 1 | September 25, 2003 | 767 airplanes | Engine Ignition and Start Control Panel.
233T6211-26-01, including Appendix A | December 19, 2001 | 767-400ER series airplanes | Auxiliary Power Unit and Cargo Fire Control Module Assembly.
233U3201-30-04, Revision 1 | September 25, 2003 | 747-400, -400D, and -400F series airplanes | Rain Removal/Anti-ice Module.
233U3202-24-02, Revision 1 | September 25, 2003 | 747-400, -400D, and -400F series airplanes | Electrical and Standby Power/Auxiliary Power Unit Start Module.
233U3203-36-01, Revision 1 | September 25, 2003 | 747-400, -400D, and -400F series airplanes | Bleed Air Control Module.
233U3206-28-01, Revision 1 | September 25, 2003 | 747-400, -400D, and -400F series airplanes | Engine Ignition Control/Fuel Jettison Module.
233U3208-22-02, Revision 1 | September 25, 2003 | 747-400, -400D, and -400F series airplanes | Passenger Oxygen and Yaw Damper Module.
233U3214-26-06, Revision 1 | September 25, 2003 | 747-400, -400D, and -400F series airplanes | Fire Control Module.
257U0002-32-04, including Appendix A | December 19, 2001 | 747-400, -400D, and -400F series airplanes | Landing Gear Actuator Control Lever Module Assembly.

FAA's Determination and Requirements of the Proposed AD

We have evaluated all pertinent information and identified an unsafe condition that is likely to exist or develop on other airplanes of this same type design. Therefore, we are proposing this AD, which would require accomplishing the actions specified in the service information described previously, except as discussed under “Differences Between the Proposed AD and the Service Bulletins.”

Differences Between the Proposed AD and the Service Bulletins

Although the Boeing service bulletins recommend a compliance time for accomplishing the inspection at the earliest opportunity when labor and facilities are available, subsequent to issuing the service bulletins, Boeing has recommended the actions be done within 60 months. The FAA concurs. In developing an appropriate compliance time for this proposed AD, we considered the degree of urgency associated with the subject unsafe condition, the average utilization of the affected fleet, and the time necessary to perform the inspection (8 work hours). In light of all of these factors, we find that a 60-month compliance time represents an appropriate interval of time for affected airplanes to continue to operate without compromising safety.

Where the Boeing service bulletins specify to “examine” certain parts, this proposed AD refers to a “general visual inspection.” We have included the definition for a general visual inspection in a note in the proposed AD.

The Boeing service bulletins specify inspecting the switch master module to determine if the master module is configuration ‘D' and replacing the switch with a switch having a configuration ‘D' master module if necessary. However, for the operators' convenience and to reduce workload, this proposed AD would include inspections for certain part numbers (an inspection of panel assemblies for part numbers and an inspection of the switches to determine if the switches have a new part number) that would result in no further action or fewer actions being required.

In contrast to the service bulletins, this proposed AD would allow an inspection of panel assemblies for part numbers. If the panel assemblies have certain part numbers, no further action would be required. If the panel assemblies have certain other part numbers, then this proposed AD would require inspecting to determine whether a configuration ‘D' master module is installed or whether the switch has a new part number. If a configuration ‘D' master module is installed or the switch has a new part number, then this proposed AD would require changing the part number of the panel assembly. If no new switch part number is found and the master module is not configuration ‘D,' the corrective action includes replacing the switch with a new part number switch, replacing the switch with a switch having a configuration ‘D' master module, or replacing the switch master module with a new configuration ‘D' master module. The new switch must have one of the following part numbers (P/Ns): Boeing P/N S231T290-4201 through -4325 inclusive or Korry P/N 4336731004-4201 through -4325 inclusive. One-to-one correlation between the existing part number switches and the new part number switches is detailed in Korry Service Bulletin 433-33-06, dated November 7, 2001. We have coordinated this inspection and replacement with Boeing.

The Boeing service bulletins also specify doing a replacement of certain panel assemblies with new panel assemblies that have switches with configuration ‘D' master modules. However, this proposed AD would require only doing a general visual inspection of the applicable switches of the panel assemblies to identify configuration ‘D' master modules and the P/N of the switch; the inspection is specified as an option in the Boeing service bulletins. We have determined that since only a few switches on a given panel might need to be replaced, doing the inspection of the applicable switches or panel assemblies is sufficient and cost-effective.

The Boeing service bulletins do not refer to any service information for the removal and/or installation of certain panels. This proposed AD would require operators to remove or install those parts according to a method approved by the FAA, or in accordance with the actions specified in paragraph (l) of this proposed AD. We have coordinated this difference with Boeing.

Boeing issued Information Notice 747-33A2280 IN 01, dated July 1, 2004, to clarify instructions specified in paragraph 3.B.14.b.(3) of the Accomplishment Instructions of Boeing Alert Service Bulletin 747-33A2280, Revision 1, dated September 25, 2003. We have included this information in paragraph (n) of this proposed AD.

Costs of Compliance

There are about 2,511 airplanes of the affected designs in the worldwide fleet. This proposed AD would affect about 934 airplanes of U.S. registry.

The proposed inspection of switches would take about 8 work hours per airplane, at an average labor rate of $80 per work hour. Based on these figures, the estimated cost of the proposed inspection for U.S. operators is $597,760, or $640 per airplane.

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

BOEING: Docket No. FAA-2007-28973; Directorate Identifier 2007-NM-118-AD.

Comments Due Date

(a) The Federal Aviation Administration (FAA) must receive comments on this AD action by October 1, 2007.

Affected ADs

(b) None.

Applicability

(c) This AD applies to Boeing airplanes listed in Table 1 of this AD, certificated in any category.

Table 1.—Applicability
Model— | As identified in Boeing alert service bulletin—
747-400, -400D, and -400F series airplanes | 747-33A2280, Revision 1, dated September 25, 2003.
757-200, -200CB, and -200PF series airplanes | 757-33A0044, Revision 1, dated September 25, 2003.
757-300 series airplanes | 757-33A0045, Revision 1, dated September 25, 2003.
767-200, -300, and -300F series airplanes | 767-33A0087, Revision 1, dated September 25, 2003.
767-400ER series airplanes | 767-33A0088, including Appendix A, dated December 19, 2001.

Unsafe Condition

(d) This AD results from a report indicating that the integrated drive generator (IDG) failed in flight due to possible switch malfunction. We are issuing this AD to ensure that certain lighted pushbutton switches in the flight compartment do not malfunction and cause the flightcrew to be unable to control critical airplane systems and continue safe airplane operation.

Compliance

(e) You are responsible for having the actions required by this AD performed within the compliance times specified, unless the actions have already been done.

Service Bulletin References

(f) The term “the service bulletin,” as used in this AD, means the Accomplishment Instructions of the service bulletins listed in Table 1 of this AD, as applicable.

Note 1: The Boeing alert service bulletins refer to Korry Service Bulletin 433-33-05, dated July 23, 2001, as an additional source of service information for finding configuration ‘D' switches, for replacing the switch master module with a configuration ‘D' master module, and for doing various operational tests after the replacement.

Component Service Bulletin References

(g) The Boeing service bulletins listed in Table 1 of this AD refer to the Boeing component service bulletins specified in Table 2 of this AD as additional sources of service information for replacing the switch or switch master module at critical locations, for doing operational tests after the replacement, and for identifying new panel part numbers.

Table 2.—Boeing Component Service Bulletins: Secondary Sources of Service Information
Boeing component service bulletin— | Date— | Model— | Critical location—
233N3203-21-01, Revision 1 | September 25, 2003 | 757 airplanes | Equipment Cooling Panel.
233N3204-30-02, Revision 1 | September 25, 2003 | 757 airplanes | Anti-ice Panel.
233N3206-28-02, Revision 1 | September 25, 2003 | 757-200, -200CB, and -200PF series airplanes | Fuel Control Panel.
233N3209-24-03, Revision 1 | September 25, 2003 | 757 airplanes, and 767-200, -300, and -300F series airplanes | Electrical Systems Panel.
233N3211-24-02, Revision 1 | September 25, 2003 | 757 airplanes and 767 airplanes | Battery/Standby Power Panel.
233N3215-36-01, Revision 1 | September 25, 2003 | 757 airplanes | Bleed Air Panel Assembly.
233N3216-22-01, Revision 1 | September 25, 2003 | 757 airplanes and 767 airplanes | Yaw Damper Panel Assembly.
233N3219-33-01, including Appendix A | December 19, 2001 | 757-200, -200CB, and -200PF series airplanes | Emergency Lights/Passenger Oxygen Panel.
233N3223-31-03, Revision 1 | September 25, 2003 | 757 airplanes | Engine Start/Ram Air Turbine Panel Assembly.
233N3224-73-01, Revision 1 | September 25, 2003 | 757-200, -200CB, and -200PF series airplanes | Electronic Engine Control Power Panel Assembly.
233N6203-26-10, Revision 1 | September 25, 2003 | 757 airplanes, and 767-200, -300, and -300F series airplanes | Auxiliary Power Unit/Cargo Fire Control Panel Assembly.
233T3210-33-01, Revision 1 | September 25, 2003 | 757 airplanes and 767 airplanes | Emergency Lights Panel.
233T3215-24-01, including Appendix A | December 19, 2001 | 767-400ER series airplanes | Electrical Control Module Assembly.
233T3235-28-05, Revision 1 | September 25, 2003 | 767-200, -300, and -300F series airplanes | Fuel Management Panel Assembly.
233T3236-21-05, Revision 1 | September 25, 2003 | 767 airplanes | Temperature Control Panel.
233T3237-36-04, Revision 1 | September 25, 2003 | 767 airplanes | Bleed Air Control Panel.
233T3241-30-03, Revision 1 | September 25, 2003 | 757-200, -200CB, and -200PF series airplanes, and 767-200, -300, and -300F series airplanes | Wing and Engine Anti-ice Control Panel.
233T3242-73-02, Revision 1 | September 25, 2003 | 757 airplanes, and 767-200, -300, and -300F series airplanes | Electronic Engine Control Panel.
233T3244-74-03, Revision 1 | September 25, 2003 | 767 airplanes | Engine Ignition and Start Control Panel.
233T6211-26-01, including Appendix A | December 19, 2001 | 767-400ER series airplanes | Auxiliary Power Unit and Cargo Fire Control Module Assembly.
233U3201-30-04, Revision 1 | September 25, 2003 | 747-400, -400D, and -400F series airplanes | Rain Removal/ Anti-ice Module.
233U3202-24-02, Revision 1 | September 25, 2003 | 747-400, -400D, and -400F series airplanes | Electrical and Standby Power/Auxiliary Power Unit Start Module.
233U3203-36-01, Revision 1 | September 25, 2003 | 747-400, -400D, and -400F series airplanes | Bleed Air Control Module.
233U3206-28-01, Revision 1 | September 25, 2003 | 747-400, -400D, and -400F series airplanes | Engine Ignition Control/Fuel Jettison Module.
233U3208-22-02, Revision 1 | September 25, 2003 | 747-400, -400D, and -400F series airplanes | Passenger Oxygen and Yaw Damper Module.
233U3214-26-06, Revision 1 | September 25, 2003 | 747-400, -400D, and -400F series airplanes | Fire Control Module.
257U0002-32-04, including Appendix A | December 19, 2001 | 747-400, -400D, and -400F series airplanes | Landing Gear Actuator Control Lever Module Assembly.

Inspection

(h) Within 60 months after the effective date of this AD: Do a general visual inspection of the switches specified in paragraphs (h)(1), (h)(2), (h)(3), (h)(4), and (h)(5) of this AD, as applicable, to identify configuration ‘D’ master modules and the part number (P/N) of the switch, in accordance with the applicable service bulletin, except as provided by paragraph (i) of this AD.

Note 2: For the purposes of this AD, a general visual inspection is “A visual examination of a interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

(1) For Model 757-200, -200CB, and -200PF series airplanes: Switches identified in step 1 and step 3 of Figure 1 of Boeing Alert Service Bulletin 757-33A0044, Revision 1, dated September 25, 2003.

(2) For Model 757-300 series airplanes: Switches identified in step 1 of Figure 1 of Boeing Alert Service Bulletin 757-33A0045, Revision 1, dated September 25, 2003.

(3) For Model 767-200, -300, and -300F series airplanes: Switches identified in step 1 of Figure 1 of Boeing Alert Service Bulletin 767-33A0087, Revision 1, dated September 25, 2003.

(4) For Model 767-400ER series airplanes: Switches identified in step 1 of Figure 1 of Boeing Alert Service Bulletin 767-33A0088, dated December 19, 2001.

(5) For all airplanes: Switches identified for the panel assemblies specified in the applicable service bulletin.

Optional Inspection

(i) Instead of doing the inspection required by paragraph (h) of this AD, operators may inspect the part number of the panel assemblies specified in paragraphs (i)(1) and (i)(2) of this AD, as applicable, at the time specified in paragraph (h) of this AD. If the part number is identified as a new part number in paragraph 2.E. Existing Parts Accountability or Appendix B of the applicable service bulletin, no further action is required. If the part number is not identified as a new part number, the inspection required by paragraph (h) of this AD must be done at the specified time.

(1) For switches identified in paragraphs (h)(1), (h)(2), (h)(3), and (h)(4) of this AD: P3-1 and P10 panel assemblies, as applicable.

(2) For switches identified in paragraphs (h)(5) of this AD: The panel assemblies identified in the applicable service bulletin.

Corrective Action

(j) If during any inspection required by paragraph (h) of this AD, any switch is found that does not have a configuration `D' switch master module and no switch part number specified in paragraph (j)(1)(i) or (j)(1)(ii) of this AD is found: Before further flight, do the actions specified in either paragraph (j)(1) or (j)(2) of this AD and do the part number revision, as applicable, specified in paragraph (j)(3) of this AD.

(1) Replace the switch with a switch specified in paragraph (j)(1)(i), (j)(1)(ii), or (j)(1)(iii) of this AD, in accordance with the applicable service bulletin, except as provided by paragraph (k) of this AD.

(i) Switches having Boeing P/N S231T290-4201 through -4325 inclusive.

(ii) Switches having Korry P/N 4336731004-4201 through -4325 inclusive.

Note 3: One-to-one switch correlation between the existing switches and the new part number switches can be found in Korry Service Bulletin 433-33-06, dated November 7, 2001.

(iii) Switches that have a configuration ‘D’ master module.

(2) Replace the switch master module with a new configuration ‘D’ master module in accordance with the applicable service bulletin.

(3) If all switches on a panel assembly have a configuration ‘D’ master module or have a switch part number specified in paragraph (j)(1)(i) or (j)(1)(ii) of this AD: Revise the part number of the panel assembly; in accordance with the applicable service bulletin.

(k) If during any inspection required by paragraph (h) of this AD, a configuration 'D' switch master module is found or the switch part number is specified in paragraph (j)(1)(i) or (j)(1)(ii) of this AD on all switches for a panel assembly: Before further flight, revise the part number of the panel assembly, in accordance with the applicable service bulletin.

Contact the FAA/Removal and Installation Procedures

(l) If the applicable service bulletin specifies removal or installation of certain parts and does not specify removal or installation instructions: Before further flight, remove or install those parts according to a method approved by the Manager, Seattle Aircraft Certification Office (ACO), FAA, or by doing the actions specified in paragraph (l)(1) of this AD for removal or paragraph (l)(2) of this AD for installation, as applicable.

(1) Remove the module/panel assembly by doing the actions specified in paragraphs (l)(1)(i), (l)(1)(ii), and (l)(1)(iii) of this AD.

(i) Hold the module/panel assembly in position and loosen the quick-release screws.

(ii) Carefully lower the module/panel assembly from the overhead panel.

(iii) Remove the electrical connectors attached to the rear of the module/panel assembly.

(2) Install the module/panel assembly by doing the actions specified in paragraphs (l)(2)(i) and (l)(2)(ii) of this AD.

(i) Make sure that the module/panel assembly is correctly aligned, and connect the electrical connectors to the rear of the unit.

(ii) Carefully lift the module/panel assembly into position and install it with the quick-release screws.

Operational Tests

(m) If any panel assemblies, switches, or master modules are replaced during any action required by this AD: Before further flight, do all applicable operational tests in accordance with the applicable service bulletin, except as provided by paragraph (n) of this AD.

(n) Where paragraph 3.B.14.b.(3) of the Accomplishment Instructions of Boeing Alert Service Bulletin 747-33A2280, Revision 1, dated September 25, 2003, specifies procedures to do a test of the engine ignition control/fuel jettison module assembly, this AD requires that operators dry-motor the engine to remove the fuel from the tail pipe before doing the procedures in paragraph 3.B.14.b.(3). All fuel must be removed from the engine tail pipe before performing the test, because during the test the engine igniter will be energized.

Actions Accomplished According to Previous Issue of Service Bulletins

(o) Actions accomplished before the effective date of this AD in accordance with Boeing Alert Service Bulletins 747-33A2280, 757-33A0044, 757-33A0045, or 767-33A0087, all dated December 19, 2001, are considered acceptable for compliance with the corresponding action specified in this AD, provided that the actions specified in this AD are done on the switches for the additional panel assemblies specified in Revision 1 of the service bulletins.

Alternative Methods of Compliance (AMOCs)

(p)(1) The Manager, Seattle ACO, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on August 2, 2007.
Ali Bahrami,
Manager, Transport Airplane Directorate, Aircraft Certification Service.

[FR Doc. E7-16100 Filed 8-15-07; 8:45 am]

BILLING CODE 4910-13-P